INTERNATIONAL TRADE COMMISSION

[Investigation No. 337-TA-1054]

Certain Height-Adjustable Desk Platforms and Components Thereof; Commission's Determination Not To Review an Initial Determination Terminating the Investigation Based on Settlement; Termination of the Investigation

AGENCY: U.S. International Trade Commission.

ACTION: Notice.

SUMMARY: Notice is hereby given that the U.S. International Trade Commission has determined not to review the presiding administrative law judge's (“ALJ”) initial determination (“ID”) (Order No. 10) terminating the investigation based on settlement.

FOR FURTHER INFORMATION CONTACT: Amanda Pitcher Fisherow, Esq., Office of the General Counsel, U.S. International Trade Commission, 500 E Street SW., Washington, DC 20436, telephone (202) 205-2737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on May 4, 2017 based on a complaint, filed on behalf of Varidesk LLC of Coppell, Texas (“complainant”). 82 FR 20919-20 (May 4, 2017). The complaint as supplemented alleges violations of section 337 based upon the importation into the United States, the sale for importation, and the sale within the United States after importation of certain height-adjustable desk platforms and components thereof by reason of infringement of U.S. Patent No. 9,113,703; U.S. Patent No. 9,277,809; and U.S. Patent No. 9,554,644. The complaint further alleges that an industry in the United States exists as required by section 337. The Commission's notice of investigation named Lumi Legend Corporation of Ningbo, China; Innovative Office Products LLC of Easton, Pennsylvania; Ergotech Group LLC of Easton, Pennsylvania; Monoprice, Inc. of Rancho Cucamonga, California; and Transform Partners LLC (dba Mount-It!) of San Diego, California (collectively “the Lumi Legend respondents”); Loctek Ergonomic Technology Corporation (formerly, Ningbo Loctek Visual Technology Corporation of Ningbo, China) of Ningbo, China; Zhejiang Loctek Smart Drive Technology Co., Ltd. of Ningbo, China; and Loctek Inc.'s (formerly, Zoxou, Inc. of Fremont, California) of Fremont, California (collectively herein, “Loctek respondents”). The Office of Unfair Import Investigations did not participate in the investigation. The Lumi Legend respondents were previously terminated based on settlement. Order No. 5 (unreviewed, Commission Notice (July 11, 2017)).

On August 29, 2017, complainant and the Loctek respondents filed a joint motion to terminate the Locktek respondents based on settlement. The motion asserted that there are no other agreements between complainant and the Loctek respondents. The parties represented “there are no other agreements, written or oral, express or implied, between these parties concerning the subject matter of the Investigation.” Motion at 1.

On August 31, 2017, the ALJ issued an ID (Order No. 10) terminating the investigation based on settlement of the Loctek respondents. The ALJ found that all of the requirements of Commission rule 210.21, 19 CFR 210.21, had been met and that there were no public interest concerns that would weigh against termination. No petitions for review were filed.

The Commission has determined not to review the subject ID and terminates the investigation.

The authority for the Commission's determination is contained in section 337 of the Tariff Act of 1930, as amended (19 U.S.C. 1337), and in part 210 of the Commission's Rules of Practice and Procedure (19 CFR part 210).

By order of the Commission.
Issued: September 26, 2017.
Lisa R. Barton,
Secretary to the Commission.

[FR Doc. 2017-20904 Filed 9-28-17; 8:45 am]

BILLING CODE 7020-02-P